FEDERAL COMMUNICATIONS COMMISSION

47 CFR Part 73

[DA 08-1713; MB Docket No. 08-85; RM-11427]

Radio Broadcasting Services; Ehrenberg and First Mesa, AZ; Needles, CA

AGENCY: Federal Communications Commission.

ACTION: Proposed rule.

SUMMARY: This document requests comments on a petition for rulemaking filed by Michael Cusinato, proposing to allot Channel 287B1 at Needles, California, as a fourth local service. To accommodate the proposed Needles allotment, Petitioner also requests the substitution of Channel 228C2 for vacant Channel 286C2 at Ehrenberg, Arizona, and the substitution of Channel 286C2 for Channel 287C2 at Wickenburg, Arizona, and modification of the Station KHOV-FM license accordingly at its license site. An Order to Show Cause is directed to Univision Radio License Corporation, licensee of Station KHOV-FM to show cause why its license should not be modified to specify operation on Channel 286C2. To accommodate the Wickenburg substitution, Petition proposes to substitute Channel 246C2 for Channel 286C2 at Kachina Village, Arizona, and modify the license for Station KFLX(FM) accordingly, at its license site. An Order to Show Cause is directed to Grenax Broadcasting II LLC, licensee of Station KFLX(FM) to show cause why its license should not be modified to Channel 246C2. Finally, to accommodate the substitution at Kachina Village, Petitioner proposes the substitution of Channel 281C for vacant Channel 281C at First Mesa, Arizona.

DATES: Comments must be filed on or before September 15, 2008, and reply comments on or before September 30, 2008.

ADDRESSES: Federal Communications Commission, 445 12th Street, SW., Washington, DC 20554. In addition to filing comments with the FCC, interested parties should serve the petitioner as follows: Michael Cusinato, 705 Peridot Ct., Castle Rock, Colorado 80108.

FOR FURTHER INFORMATION CONTACT: Victoria McCauley, Media Bureau, (202) 418-2180.

SUPPLEMENTARY INFORMATION: This is a synopsis of the Commission's Notice of Proposed Rule Making, MB Docket No. 08-85, adopted July 23, 2008, and released July 25, 2008. The full text of this Commission decision is available for inspection and copying during normal business hours in the FCC's Reference Information Center at Portals II, CY-A257, 445 12th Street, SW., Washington, DC 20554. This document may also be purchased from the Commission's copy contractor, Best Copy and Printing, Inc., Portals II, 445 12th Street, SW., Room CY-B402, Washington, DC 20554, telephone 1-800-378-3160 or http://www.BCPIWEB.com.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Arizona is amended by removing Channel 286C2 and by adding Channel 228C2 at Ehrenberg, and by removing Channel 247C and by adding Channel 281C at First Mesa.

3. Section 73.202(b), the Table of FM Allotments under California is amended by adding Needles, Channel 287B1.

Federal Communications Commission.
John A. Karousos,
Assistant Chief, Audio Division Media Bureau.

[FR Doc. E8-18212 Filed 8-6-08; 8:45 am]

BILLING CODE 6712-01-P